DEPARTMENT OF LABOR

Employment and Training Administration

Comment Request for Information Collection for ETA 9128, Reemployment Services and Eligibility Assessments Workload Report, ETA 9129, Reemployment Services and Eligibility Assessments Outcomes Report, Extension With Revision, ETA 9128 X, Reemployment Services and Eligibility Assessments Workload Report for Unemployment Compensation for Ex-Servicemembers (UCX), and ETA 9129 X, Reemployment Services and Eligibility Assessments Outcomes Report for Unemployment Compensation for Ex-Servicemembers

AGENCY: Employment and Training Administration (ETA), Labor.

ACTION: Notice

SUMMARY: The Department of Labor, as part of its continuing effort to reduce paperwork and respondent burden, conducts a preclearance consultation program to provide the general public and Federal agencies an opportunity to comment on proposed and/or continuing collection of information in accordance with the Paperwork Reduction Act of 1995 [44 U.S.C. 3506(c)(2)(A)] (PRA). The PRA helps to ensure that respondents can provide requested data in the desired format with minimal reporting burden (time and financial resources), collection instruments are clearly understood, and the impact of collection requirements on respondents can be properly assessed.

Currently, ETA is soliciting comments concerning the collection of data about the ETA 9128, and the ETA 9129 and the new ETA 9128 X and ETA 9129 X. The current expiration date for the ETA 9128 and ETA 9129 reports is January 31, 2016. Beginning in 2016, states will be required to target for the Reemployment Services and Eligibility Assessment (RESEA) program one-third of those regular claimants most likely to exhaust their benefits and all claimants receiving UCX. For this reason the Department is proposing that states send an ETA 9128 report for one-third of those regular claimants most likely to exhaust their benefits and a separate ETA 9128 X report for UCX recipients. These two reports will reflect different populations and all data elements will be the same as are currently collected on the ETA 9128 report. To review the outcomes of the RESEA program, the Department is proposing to use the ETA 9129 report and the ETA 9129 X report for UCX participants. The data elements in these reports will parallel those of the treatment group on the current reports. Data collection for the comparison group in the ETA 9129 is being discontinued under this revision and will not be included in the ETA 9129 X. All these reports will reflect the new name for the Reemployment and Eligibility Assessment (REA) program, which changed in 2015 to the RESEA program.

DATES: Submit written comments to the office listed in the addressee section below on or before September 8, 2015.

ADDRESSES: Send comments to Diane Wood, Office of Unemployment Insurance, Room S-4524, Employment and Training Administration, U.S Department of Labor, 200 Constitution Avenue NW., Frances Perkins Bldg., Washington, DC 20210. Telephone number: (202) 693-3212 (this is not a toll-free number). Individuals with hearing or speech impairments may access the telephone number above via TTY by calling the toll-free Federal Information Relay Service at 1-877-889-5627 (TTY/TDD). Email at wood.diane@dol.gov. To obtain a copy of the proposed information collection request (ICR), please contact the person listed above.

SUPPLEMENTARY INFORMATION:

I. Background

Funds will be awarded to participating states in the RESEA program year 2015 to continue the REA program. The RESEA guidelines require that these funds be used to conduct in-person assessments in the American Job Centers. The RESEA must include an orientation session, an unemployment insurance (UI) eligibility review, the provision of labor market information, development of a re-employment plan and referral to reemployment services and/or training, as appropriate. The guidelines require that participation exclude those claimants who have a specific return-to-work date.

II. Review Focus

The Department is particularly interested in comments which:

* Evaluate whether the proposed collection of information is necessary for the proper performance of the function of the agency, including whether the information has practical utility;

* evaluate the accuracy of the agency's estimate of the burden of the proposed collection of information, including the validity of the methodology and assumptions used;

* enhance the quality, utility, and clarity of the information to be collected; and

* minimize the burden of the collection of information on those who are to respond, including the use of appropriate automated, electronic, mechanical, or other technological collection techniques or other forms of information technology, e.g., permitting electronic submissions of responses.

III. Current Actions

The continued collection of the information contained on the ETA 9128 and the ETA 9129 reports is necessary to enable the Office of Unemployment Insurance (OUI) to continue evaluating the effectiveness of the REA program through workload and outcomes reports.

Type of Review: Extension with revision.

Title: Reemployment and Eligibility Assessments Workload Report and Reemployment and Eligibility Assessments Outcomes Report (ETA 9128 and ETA 9129) and Reemployment and Eligibility Assessments Workload Report for Ex-Servicemembers, and Reemployment and Eligibility Assessments Outcomes Report for Ex-Servicemembers (ETA 9128 X and ETA 9129 X).

OMB Number: 1205-0456.

Affected Public: State and Local Governments.

Estimated Total Annual Respondents: 48.

Average Frequency: Quarterly (four reports every quarter per state).

Estimated Annual Responses: 768.

Average Time per Response: 0.5 hours.

Estimated Total Burden Hours: 384 hours.

Total Estimated Annual Other Cost Burden: $0.

We will summarize and/or include in the request for OMB approval of the ICR, the comments received in response to this comment request; they will also become a matter of public record.

Portia Wu,
Assistant Secretary for Employment and Training, Labor.

[FR Doc. 2015-16560 Filed 7-6-15; 8:45 am]

BILLING CODE 4510-FN-P